NEIGHBORHOOD REINVESTMENT CORPORATION

Sunshine Meeting; Regular Board of Directors Meeting

Time & Date: 2 p.m., Monday, December 19, 2005.

Place: Neighborhood Reinvestment Corporation, DBA NeighborWorks® America, 1325 G Street NW., Suite 800, Boardroom, Washington, DC 20005.

Status: Open.

Contact Person for More Information: Jeffrey T. Bryson, General Counsel/Secretary 202-220-2372; jbryson@nw.org.

Agenda:

I. Call to Order

II. Approval of Minutes: October 3, 2005

III. Audit Committee Meeting

IV. Finance and Budget Committee

V. Corporate Fundraising Committee

VI. CEO Quarterly Management Report

VII. NHSA Update

VIII. Adjournment

Jeffrey T. Bryson,
General Counsel/Secretary.

[FR Doc. 05-24030 Filed 12-9-05; 2:13 pm]

BILLING CODE 7570-01-M